DEPARTMENT OF THE INTERIOR

Fish and Wildlife Service

Endangered and Threatened Wildlife and Plants; Initiation of a 5-Year Review of Maguire Daisy, Holmgren Milk-Vetch, Shivwits Milk-Vetch, Virgin River Chub, Woundfin, and Kanab Ambersnail

AGENCY: Fish and Wildlife Service, Interior.

ACTION: Notice.

SUMMARY: The U.S. Fish and Wildlife Service (Service) announces a 5-year review of Maguire daisy (Erigeron maguirei), Holmgren milk-vetch (Astragalus holmgreniorum), Shivwits milk-vetch (Astragalus ampullarioides), Virgin River chub (Gila seminuda), woundfin (Plagopterus argentissimus), and Kanab ambersnail (Oxyloma haydeni kanabensis) under the Endangered Species Act of 1973 (ESA). The purpose of reviews conducted under this section of the ESA is to ensure that the classification of species as threatened or endangered on the List of Endangered and Threatened Wildlife and Plants (50 CFR 17.12) is accurate. The 5-year review is an assessment of the best scientific and commercial data available at the time of the review.

DATES: To allow us adequate time to conduct this review, we must receive your information no later than June 6, 2006. However, we will continue to accept new information about any listed species at any time.

ADDRESSES: Submit information to the Utah Field Office, U.S. Fish and Wildlife Service, Attention: 5-year Review, 2369 West Orton Circle, Suite 50, West Valley City, Utah 84119. Information received in response to this notice and review, as well as other documentation in our files, will be available for public inspection, by appointment, during normal business hours, at the above address.

FOR FURTHER INFORMATION CONTACT: Henry Maddux, Field Supervisor, at the above address, or telephone 801-975-3330.

SUPPLEMENTARY INFORMATION:

Why Is a 5-Year Review Being Conducted?

Section 4(c)(2)(A) of the ESA (16 U.S.C. 1531 et seq.) requires that we conduct a review of listed species at least once every 5 years. We are then, under section 4(c)(2)(B) and the provisions of subsections (a) and (b), to determine, on the basis of such a review, whether or not any species should be removed from the List of Endangered and Threatened Wildlife and Plants (delisted), or reclassified from endangered to threatened (downlisted), or reclassified from threatened to endangered (uplisted). The 5-year review is an assessment of the best scientific and commercial data available at the time of the review. Therefore, we are requesting submission of any new information (best scientific and commercial data) on the following species since their original listings as endangered (Holmgren milk-vetch (66 FR 49560, September 28, 2001), Kanab ambersnail (57 FR 13657, April 17, 1992), Shivwits milk-vetch (66 FR 49560, September 28, 2001), Virgin River chub (54 FR 35305, August 24, 1989), Woundfin (39 FR 1171, January 4, 1974), and Maguire daisy (50 FR 36089, September 5, 1985)). For Maguire daisy, we especially request information since its 1996 reclassification from endangered to threatened (61 FR 31054, June 19, 1996). While the Holmgren and Shivwits milk-vetches have not yet been listed for 5 years, these reviews will not be completed until after the 5-year period on September 28, 2006. If the present classification of any of these species is not consistent with the best scientific and commercial information available, the Service will recommend whether or not a change is warranted in the Federal classification of the species. Any change in Federal classification would require a separate rule-making process.

Our regulations at 50 CFR 424.21 require that we publish a notice in the Federal Register announcing those species currently under active review. This notice announces our active review of the Holmgren milk-vetch, Kanab ambersnail, Maguire daisy, Shivwits milk-vetch, Virgin River chub, and woundfin.

What Information Is Considered in the Review?

A 5-year review considers all new information available at the time of the review. These reviews will consider the best scientific and commercial data that have become available since the current listing determination or most recent status review of each species, such as—(A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of Holmgren milk-vetch, Kanab ambersnail, Maguire daisy, Shivwits milk-vetch, Virgin River chub, and woundfin. See “What information is considered in the review?” heading for specific criteria. Information submitted should be supported by documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of designated or proposed critical habitat (only applies to Holmgren and Shitwits milk-vetches, Virgin River chub, and Woundfin); and recent information regarding conservation measures that have been implemented to benefit the species. Additionally, we specifically request information regarding the current distribution of populations and evaluation of threats faced by the species in relation to the five listing factors (as defined in section 4(a)(1) of the ESA) and each species listed status as judged against the definition of threatened or endangered. Finally, we solicit recommendations pertaining to the development of or potential updates to recovery plans and additional actions or studies that would benefit these species in the future.

Our practice is to make comments, including names and home addresses of respondents, available for public review. Individual respondents may request that we withhold their home addresses from the supporting record, which we will honor to the extent allowable by law. There also may be circumstances in which we may withhold from the supporting record a respondent's identity, as allowable by law. If you wish us to withhold your name and/or address, you must state this prominently at the beginning of your comment. However, we will not consider anonymous comments. We will make all submissions from organizations or businesses, and from individuals identifying themselves as representatives or officials of organizations or businesses, available for public inspection in their entirety.

How Are These Species Currently Listed?

The List of Endangered and Threatened Wildlife and Plants (List) is found in 50 CFR 17.11 (wildlife) and 17.12 (plants). Amendments to the List through final rules are published in the Federal Register. The List also is available on our Internet site at http://endangered.fws.gov/wildlife.html#Species. In Table 1 below, we provide a summary of the listing information for the species under active review.

Table 1.—Summary of the Listing Information for Holmgren Milk-vetch, Kanab Ambersnail, Maguire Daisy, Shivwits Milk-vetch, Virgin River Chub, and Woundfin
Species: Common name | Species: Scientific name | Historic range | Where endangered or threatened | Status | When listed | Critical habitat | Special rules
* * * * * * *
Plants
Holmgren Milk-vetch | Astragalus holmgreniorum | U.S.A. (AZ, UT) | Entire | E | 711 | NA | NA
Maguire Daisy | Erigeron maguirei | U.S.A. (UT) | Entire | T | 202,584 | NA | NA
Shivwits Milk-vetch | Astragalus ampullarioides | U.S.A. (UT) | Entire | E | 711 | NA | NA
* * * * * * *
Fish
Virgin River Chub | Gila seminuda | U.S.A. (AZ, NV, UT) | Entire | E | 361 | 17.95 (e) | NA
Woundfin | Plagopterus argentissimus | U.S.A. (AZ, NV, UT) | Entire, except Gila R. drainage, AZ, NM | E | 2,193 | 17.95 (e) | NA
Do | do | do | Gila R. drainage, AZ, NM | EXPN | 193 | NA | 17.84 (b)
* * * * * * *
Invertebrates
Kanab Ambersnail | Oxyloma haydeni kanabensis | U.S.A. (AZ, UT) | Entire | E | 431E, 459,477 | NA | NA
* * * * * * *

Definitions Related to This Notice

The following definitions are provided to assist those persons who contemplate submitting information regarding the species being reviewed—(A) Species includes any species or subspecies of fish, wildlife, or plant, and any distinct population segment of any species of vertebrate, which interbreeds when mature; (B) Endangered means any species that is in danger of extinction throughout all or a significant portion of its range; (C) Threatened means any species that is likely to become an endangered species within the foreseeable future throughout all or a significant portion of its range.

How Do We Determine Whether a Species Is Endangered or Threatened?

Section 4(a)(1) of the ESA establishes that we determine whether a species is endangered or threatened based on one or more of the five following factors—(A) The present or threatened destruction, modification, or curtailment of its habitat or range; (B) Overutilization for commercial, recreational, scientific, or educational purposes; (C) Disease or predation; (D) The inadequacy of existing regulatory mechanisms; or (E) Other natural or manmade factors affecting its continued existence. Section 4(a)(1) of the ESA requires that our determination be made on the basis of the best scientific and commercial data available.

What Could Happen as a Result of This Review?

If we find that there is new information concerning Holmgren milk-vetch, Kanab ambersnail, Maguire daisy, Shivwits milk-vetch, Virgin River chub, and woundfin indicating a change in classification may be warranted, we may propose a new rule that could do one of the following—(a) Reclassify the species from endangered to threatened (downlist); (b) reclassify the species from threatened to endangered (uplist); or (c) remove the species from the List. If we determine that a change in classification is not warranted, then these species will remain on the List under their current status.

Authority

This document is published under the authority of the Endangered Species Act of 1973, as amended (16 U.S.C. 1531 et seq.).

Dated: March 20, 2006.
Casey Stemler,
Acting Deputy Regional Director, Denver, Colorado.

[FR Doc. E6-5087 Filed 4-6-06; 8:45 am]

BILLING CODE 4310-55-P